DEPARTMENT OF ENERGY

Federal Energy Regulatory Commission

[Docket No. RP02-361-015]

Gulfstream Natural Gas System, L.L.C.; Notice of Compliance Filing

October 29, 2003.

Take notice that on October 23, 2003, Gulfstream Natural Gas System, L.L.C. (Gulfstream) tendered for filing as part of its FERC Gas Tariff, Original Volume No. 1, Second Sub Original Sheet No. 8K, reflecting an effective date of August 1, 2003.

Gulfstream states that it is making this filing pursuant to an order issued by the Commission in the captioned docket on October 8, 2003. Pursuant to the October 8 Order, Gulfstream states it is clarifying that the Park transaction described by the tariff sheet applies to all points on the system.

Gulfstream states that copies of its filing have been mailed to all affected customers and interested state commissions, as well as all parties on the Commission's Official Service List compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Magalie R. Salas,
Secretary.

[FR Doc. E3-00159 Filed 11-03-03; 8:45 am]

BILLING CODE 6717-01-P